DEPARTMENT OF TRANSPORTATION

Office of the Secretary

Notice of Applications for Certificates of Public Convenience and Necessity and Foreign Air Carrier Permits Filed Under Subpart B (Formerly Subpart Q) During the Week Ending December 14, 2001

The following applications for certificates of public convenience and necessity and foreign air carrier permits were filed under subpart B (formerly subpart Q) of the Department of Transportation's procedural regulations (See 14 CFR 301.201 et seq.). The due date for answers, conforming applications, or motions to modify scope are set forth below for each application. Following the answer period, DOT may process the application by expedited procedures. Such procedures may consist of the adoption of a show-cause order, a tentative order, or in appropriate cases a final order without further proceedings.

Docket Number: OST-2001-11156.

Date Filed: December 11, 2001.

Due Date for Answers, Conforming Applications, or Motion to Modify Scope: January 2, 2002.

Description: Application of Westjet, pursuant to 49 U.S.C. section 41303, requesting a transfer of the foreign air carrier permit of WestJet Airlines Ltd. to engage in chartered and scheduled foreign air transportation of persons, property and mail between US and Canadian points, operating as “WestJet.”

Docket Number: OST-2001-11164.

Date Filed: December 12, 2001.

Due Date for Answers, Conforming Applications, or Motion to Modify Scope: January 2, 2002.

Description: Application of Caribbean Star Airlines, Inc., pursuant to 49 U.S.C. section 41102 and subpart B, requesting the issuance of a certificate of public convenience and necessity to engage in scheduled and charter foreign air transportation of persons, property and mail between points in Florida and Puerto Rico, on the one hand, and points throughout the Caribbean region, Mexico and Central and South America, on the other hand.

Andrea M. Jenkins,
Federal Register Liaison.

[FR Doc. 01-32236 Filed 12-31-01; 8:45 am]

BILLING CODE 4910-62-P